DEPARTMENT OF AGRICULTURE

Submission for OMB Review; Comment Request

May 18, 2020.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding these information collections are best assured of having their full effect if received by June 22, 2020. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Current Agricultural Industrial Reports (CAIR).

OMB Control Number: 0535-0254.

Summary of Collection: The Current Agricultural Industrial Reports (CAIR) surveys have become an integral part of the Census of Agriculture and numerous other surveys conducted by NASS. Under the authority of the Census of Agriculture Act of 1997 (Pub. L. 105-113) and defined under Title 7, Sec. 2204(g), these surveys will be mandatory. The data from the CAIR surveys will supply data users with important information on the utilization of many of the crops, livestock, and poultry produced in the U.S.

Need and Use of the Information: Data from these surveys is essential to measuring the consumption of agricultural products in the production of numerous consumer goods. Agricultural products such as grain, oilseeds, fibers, and animal co-products is used in the creation of cooking oils, flour, lubricants, fuel, fabrics, soap, paint, methyl esters, resins, and numerous other products. The data are needed to provide a more complete picture of the importance of agriculture to the American population. Data from these instruments is published and publications are available to everyone at the same time on the NASS website.

Description of Respondents: Business or other for-profit.

Number of Respondents: 760.

Frequency of Responses: Reporting: One time.

Total Burden Hours: 2,283.

Ruth Brown,
Departmental Information Collection Clearance Officer.

[FR Doc. 2020-10961 Filed 5-20-20; 8:45 am]

BILLING CODE 3410-20-P